SOCIAL SECURITY ADMINISTRATION

Privacy Act of 1974, as Amended; Computer Matching Program (SSA/Centers for Medicare and Medicaid Services (CMS) Match Number 1094)

AGENCY: Social Security Administration (SSA).

ACTION: Notice of renewal of an existing computer matching program which expired on September 21, 2003. The next match is scheduled to take place in November 2004.

SUMMARY: In accordance with the provisions of the Privacy Act, as amended, this notice announces the renewal of an existing computer matching program that SSA is currently conducting with CMS.

DATES: SSA will file a report of the subject matching program with the Committee on Governmental Affairs of the Senate, the Committee on Government Reform of the House of Representatives and Office of Information and Regulatory Affairs, Office of Management and Budget (OMB). The renewal of the matching program will be effective as indicated below.

ADDRESSES: Interested parties may comment on this notice by either telefax to (410) 965-8582 or writing to the Associate Commissioner for Income Security Programs, 245 Altmeyer Building, 6401 Security Boulevard, Baltimore, MD 21235-6401. All comments received will be available for public inspection at this address.

FOR FURTHER INFORMATION CONTACT: The Associate Commissioner for Income Security Programs as shown above.

SUPPLEMENTARY INFORMATION: A. General:

The Computer Matching and Privacy Protection Act of 1988 (Public Law (Pub. L.) 100-503) amended the Privacy Act (5 U.S.C. 552a) by establishing the conditions under which computer matching involving the Federal government could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the Data Integrity Boards” approval of the match agreements;

(3) Publish notice of the computer matching program in the Federal Register;

(4) Furnish detailed reports about matching programs to Congress and OMB;

(5) Notify applicants and beneficiaries that their records are subject to matching; and

(6) Verify match findings before reducing, suspending, terminating, or denying an individual's benefits or payments.

B. SSA Computer Matches Subject to the Privacy Act: We have taken action to ensure that all of SSA's computer matching programs comply with the requirements of the Privacy Act, as amended.

Dated: August 19, 2004.
Martin H. Gerry,
Deputy Commissioner for Disability and Income Security Programs.

Notice of Computer Matching Program, Social Security Administration (SSA) with the Centers for Medicare and Medicaid Services (CMS)

A. Participating Agencies: SSA and CMS.

B. Purpose of the Matching Program: The purpose of this matching program is to establish the conditions, safeguards and procedures under which CMS agrees to disclose Medicare non-utilization data to SSA. In some instances, if an individual has not used Medicare benefits for an extended period of time, this may indicate that the individual is deceased. SSA will use the selected data as an indicator of cases that should be reviewed to determine continued eligibility to SSA-administered programs.

C. Authority for Conducting the Matching Program: Sections 202 (42 U.S.C. 402) and 205(c) (42 U.S.C. 405(c)) of the Social Security Act.

D. Categories of Records and Individuals Covered by the Matching Program: SSA will periodically furnish CMS with an electronic finder file containing Title II Claim Account Number (CAN) and Title II Beneficiary Identification Code (BIC) of beneficiaries from SSA's file of Master Beneficiary Records (SSA/OEEAS 60-0090) who receive Medicare.

SSA will request CMS to match the finder file against their National Claims History (09-70-0005) and the Enrollment Database (09-70-0502) and release an electronic file to SSA containing certain identifying information on enrollees who have not used Medicare for a specified period of a least 12 consecutive months.

E. Inclusive Dates of the Matching Program: The matching program shall become effective no sooner than 40 days after notice for the program is sent to Congress and OMB, or 30 days after publication of this notice in the Federal Register, whichever date is later. The matching program will continue for 18 months from the effective date and may be extended for an additional 12 months thereafter, if certain conditions are met.

[FR Doc. 04-19815 Filed 8-30-04; 8:45 am]

BILLING CODE 4191-02-P